FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier Ocean Transportation Intermediary Applicants

Jordan River Moving & Storage, Inc., 11801 NE., 116th Street, Ste. A, Kirkland, WA 98034, Officers: Jack Bracha, President, (Qualifying Individual), Jack Yerushalmian, Vice President.

Jury Trans, Inc., 8244 NW., 14 Street, Miami, FL 33126, Officer: Nabil Enrique Jury, President, (Qualifying Individual).

ABC Service Network, Inc., 388 E. Valley Blvd., Suite 225, Alhambra, CA 91801, Officers: Alan Z. Zhang, President, (Qualifying Individual), Becky Zhang, Controller.

Stellar Shipping Inc., 80 Broad Street, 13th Floor, Suite 1301, New York, NY 10004, Officers: Efstratios Soufalos, President, (Qualifying Individual), John C. Mamoulakis, Vice President.

New Victory International Logistics, Inc., 17595 Almahurst Road, Suite 205A, Industry, CA 91748, Officers: Brian Wong, President, (Qualifying Individual), Zheng Bo, Director.

Smart Freight Corp., 51 Sunrise Highway, Suite #102, Lynbrook, NY 11563, Officers: Andrew Foo, CEO, (Qualifying Individual), Fina Chang, Secretary.

Non-Vessel-Operating Common Carrier and Ocean Freight Forwarder Transportation Intermediary Applicants

Pacific Export Cargo Corp., 2896 Norton Avenue, Lynwood, CA 90262, Officers: Kevork Odabachian, President, (Qualifying Individual), Haroution Bahlounian, Vice President.

SOSA SVCES Corporation Inc., 8310 NW 56 Street, Miami, FL 33166, Officers: Ana Sosa, Vice President, (Qualifying Individual), Miguel A. Sosa, President.

Air Trans Marine Inc., 4462 NW 74 Avenue, Miami, FL 33166, Officer: Carmen V. Toral, General Manager, (Qualifying Individual).

Ocean Freight Forwarder—Ocean Transportation Intermediary Applicants

Global Shipping Company LLC, 3900 Kellogg Avenue, Cincinnati, OH 456226, Officer: Danny McKee, President, (Qualifying Individual).

A.C. International Holdings, Inc., 2030 NW 94th Avenue, Miami, FL 33172, Officer: Zunilda Caunedo, President, (Qualifying Individual).

Phoenix Freight Inc. dba Door to Door Services, 24 Cokesbury Road, Unit 19, Lebanon, NJ 08833, Officer: Brigitte Boyea, President, (Qualifying Individual).

Shockwavecargo LLC dba Shockwavecargo, 1 Slater Drive, Elizabeth, NJ 07206, Officer: Lori Nevins, Member, (Qualifying Individual).

Dated: May 4, 2007.
Karen V. Gregory,
Assistant Secretary.

[FR Doc. E7-8887 Filed 5-8-07; 8:45 am]

BILLING CODE 6730-01-P